DEPARTMENT OF THE INTERIOR

Bureau of Ocean Energy Management

[BOEM-2013-0022; MMAA104000]

Right-of-Way Grant of Submerged Lands on the Outer Continental Shelf to Support Renewable Energy Development

AGENCY: Bureau of Ocean Energy Management (BOEM), Interior.

ACTION: Notice.

SUMMARY: BOEM will use Form 0009 to issue a renewable energy right-of-way (ROW) grant on the Outer Continental Shelf (OCS). BOEM developed a draft of the form included in this Notice, and published it in the Federal Register (77 FR 52353, August 29, 2012) with a 30-day comment period (Draft Form). BOEM has reviewed all the comments received and revised the Draft Form where appropriate. For further information, including the comments received and BOEM's response to those comments, visit BOEM's Web site, at http://www.boem.gov/Renewable-Energy Program/Regulatory-Information/Index.aspx.

DATES: The ROW grant form will be effective and available for use on August 21, 2013.

FOR FURTHER INFORMATION CONTACT: Maureen A. Bornholdt, Program Manager, Office of Renewable Energy Programs, (703) 787-1300.

Dated: July 17, 2013.
Tommy P. Beaudreau,
Director, Bureau of Ocean Energy Management.

[FR Doc. 2013-18949 Filed 8-5-13; 8:45 am]

BILLING CODE 4310-MR-P